DEPARTMENT OF THE INTERIOR

Bureau of Land Management

[BLM_NM_FRN_MO#4500172157; NMNM-145757]

Notice of Proposed Withdrawal and Public Meeting, New Mexico

AGENCY: Bureau of Land Management, Interior.

ACTION: Notice.

SUMMARY: At the request of the Bureau of Land Management (BLM) and subject to valid existing rights, the Secretary of the Interior proposes to withdraw 4,212.98 acres of public lands from location and entry under the United States mining laws, from leasing under the mineral leasing laws, and from disposal of minerals under the Materials Act of 1947, for up to a 50-year term. This notice segregates the lands for up to two years from location and entry under the United States mining laws, from leasing under the mineral leasing laws, and from disposal of mineral materials, subject to valid existing rights; initiates a 90-day public comment period on the proposed withdrawal; and notifies the public that one public meeting will be held regarding the application.

DATES: Comments and requests for additional public meetings must be received by December 19, 2023. In-person public meeting regarding the withdrawal application will be held on November 14, 2023, from 5:30-7:30 p.m. at the Placitas Library, 453 Highway 65, Placitas, New Mexico 87043.

ADDRESSES: All comments should be mailed to: Bureau of Land Management Rio Puerco Field Office, Attn: Placitas Withdrawal, 100 Sun Avenue, Suite 330, Albuquerque, NM 87109.

FOR FURTHER INFORMATION CONTACT: Laura Gray, BLM Rio Puerco Field Office, (505) 761-8918 or lgray@blm.gov during regular business hours, 8:00 a.m. to 4:30 p.m. Mountain Time, Monday through Friday, except holidays. Individuals in the United States who are deaf, deafblind, hard of hearing, or have a speech disability may dial 711 (TTY, TDD, or Tele Braille) to access telecommunications relay services. Individuals outside the United States should use the relay services offered within their country to make international calls to the point-of-contact in the United States. A map and other information related to the withdrawal application are available at the Bureau of Land Management Rio Puerco Field Office, 100 Sun Avenue, Suite 330, Albuquerque, NM 87109. Details regarding this project are also available for review on the BLM e-Planning website https://eplanning.blm.gov/eplanning-ui/project/2026585/510.

SUPPLEMENTARY INFORMATION: The BLM has filed a petition/application requesting the Secretary of the Interior withdraw public lands situated within the boundaries of the area described below, known as the Placitas area.

The purpose of the proposed withdrawal is to protect, preserve, and promote the scenic integrity, cultural importance, recreational values, and wildlife habitat connectivity within the Placitas area. The proposed withdrawal area's landscape character and scenic intergrity are characterized by intact conifer woodland, pinyon-juniper woodland, and savanna with minimal visual disruption. One tract is remote and characterized by moderately steep slopes with pinon and juniper trees intermixed with shrubs and sparse grasses, offering panoramic views of the Sandia Mountains and middle Rio Grande Valley.

The land is considered ancestral and sacred to the Pueblos of San Felipe and Santa Ana and is rich in archaeological resources that span thousands of years of human history. The four parcels are in a natural, scenic setting with easy proximity to a major metropolitan area, which makes the location popular for dispersed recreational activities such as hiking, horseback riding, dispersed camping, hunting, shooting, sightseeing, mountain biking, and off-road driving.

Additionally, the area has been identified as a priority wildlife linkage between the Sandia Mountains and mountain ranges to the north for big game species including deer, elk, bear, and cougar. Withdrawal of this area is desirable for the promotion of habitat connectivity.

Existing uses of the public lands may continue in accordance with their terms and conditions. Temporary uses that may be permitted during the segregation period are leases, licenses, permits, rights-of-way, and other uses consistent with the October 1992 Rio Puerco Resource Management Plan, as amended.

The legal description is as follows:

New Mexico Principal Meridian, New Mexico

San Antonio de las Huertas Grant,

Parcel C.

Town of Tejon Grant,

Tract 40.

T. 13 N., R. 4 E.,

Sec. 13, Lots 6 thru 9 and S½;

Sec. 14, Lots 12 thru 15, and E½SE¼, and SW¼SE¼;

Sec. 15, Lot 10;

Sec. 22, Lots 6 and 7, and SE¼NE¼;

Sec. 23, N½, NE¼SW¼, and SE¼;

Sec. 24, N½.

T. 12 N, R. 5 E.,

Tract 39.

T. 13 N., R. 5 E.,

Sec. 10, Lots 14 and 15;

Sec.11, Lot 9;

Sec. 17, Lots 1 thru 4, S½SW¼, and S½SE¼;

Sec. 18, Lots 1 thru 7, SE¼SW¼, and S½SE¼;

Sec. 19, Lots 1 thru 3, NE¼, and E½NW¼;

Sec. 20, E½, E½NW¼, NW¼NW¼, and NE¼SW¼;

Sec. 29, Lots 1 thru 4;

Sec. 30, SE¼;

Sec. 31, NE¼NE¼;

Tract 38.

The area aggregates 4,212.98 acres.

The Secretary approved the BLM's petition. Therefore, it constitutes a withdrawal proposal of the Secretary of the Interior (43 CFR 2310.1-3(e)).

The use of a right-of-way, interagency agreement, or cooperative agreement would not adequately constrain mineral location and surface entry, which could adversely affect ongoing management activities, resulting in land use conflicts as well as irretrievable loss of natural resources.

Licenses, permits, cooperative agreements, or discretionary land use authorizations of a temporary nature that would not significantly impact the values to be protected by the requested withdrawal may be allowed with the approval of the authorized officer of the BLM during the temporary segregation period.

For a period until December 19, 2023, persons who wish to submit comments, suggestions, or objections related to the withdrawal application may present their views in writing to the ADDRESS listed above.

Before including your address, phone number, email address, or other personal identifying information in your comment, you should be aware that your entire comment—including your personal identifying information—may be made publicly available at any time. While you may ask the BLM in your comment to withhold your personal identifying information from public review, we cannot guarantee that we will be able to do so.

For a period until September 22, 2025, subject to valid existing rights, the BLM lands described in this notice will be temporarily segregated from location and entry under the United States mining laws, from leasing under the mineral leasing laws, and from disposal under the Materials Act of 1947, unless the application is denied or canceled or the withdrawal is approved prior to that date. All activities currently consistent with the October 1992 Rio Puerco Resource Management Plan, as amended, are authorized to continue, including public recreation and other activities compatible with preservation of the character of the area, subject to BLM discretionary approval, during the segregation period.

This withdrawal application will be processed in accordance with the regulations set forth at 43 CFR part 2300.

(Authority: 43 U.S.C. 1714.)

Melanie G. Barnes,
State Director.

[FR Doc. 2023-20122 Filed 9-19-23; 8:45 am]

BILLING CODE 4331-23-P